DEPARTMENT OF AGRICULTURE

National Agricultural Statistics Service

Notice of Intent To Request Revision and Extension of a Currently Approved Information Collection

AGENCY: National Agricultural Statistics Service, USDA.

ACTION: Notice and request for comments.

SUMMARY: In accordance with the Paperwork Reduction Act of 1995, this notice announces the intention of the National Agricultural Statistics Service (NASS) to request revision and extension of a currently approved information collection, the Nursery and Floriculture Chemical Use Survey. Revision to burden hours will be needed due to changes in the size of the target population, sampling design, and/or questionnaire length. We will also be discontinuing the Nursery and Christmas Tree Production Survey for this approval cycle. NASS will be able to use production data from the Census of Horticulture (0535-0236) to calculate weights and expansions for the chemical use data.

DATES: Comments on this notice must be received by November 2, 2009 to be assured of consideration.

ADDRESSES: You may submit comments, identified by docket number 0535-0244, by any of the following methods:

• E-mail: ombofficer@nass.usda.gov. Include docket number above in the subject line of the message.

• Fax: (202) 720-6396.

• Mail: Mail any paper, disk, or CD-ROM submissions to: David Hancock, NASS Clearance Officer, U.S. Department of Agriculture, Room 5336 South Building, 1400 Independence Avenue SW., Washington, DC 20250-2024.

• Hand Delivery/Courier: Hand deliver to: David Hancock, NASS Clearance Officer, U.S. Department of Agriculture, Room 5336 South Building, 1400 Independence Avenue SW., Washington, DC 20250-2024.

FOR FURTHER INFORMATION CONTACT: Joseph T. Reilly, Associate Administrator, National Agricultural Statistics Service, U.S. Department of Agriculture, (202) 720-4333.

SUPPLEMENTARY INFORMATION: Title: Nursery and Christmas Tree Production Survey and Nursery and Floriculture Chemical Use Survey.

OMB Control Number: 0535-0244.

Expiration Date of Approval: January 31, 2010.

Type of Request: To revise and extend a currently approved information collection for a period of three years.

Abstract: The primary objective of the National Agricultural Statistics Service (NASS) is to prepare and issue State and national estimates of crop and livestock production, prices, and disposition, as well as economic statistics, environmental statistics related to agriculture and also to conduct the Census of Agriculture.

This includes estimates of production and value of key nursery products and chemical use by nursery and floriculture production operations.

The Nursery and Floriculture Chemical Use Survey, is conducted every 3 years; it measures chemical usage, related to the production of nursery and floriculture crops in six major producing States. The resulting publication, is part of the NASS series on Agricultural Chemical Usage, and it summarizes rates of application, total amount of active ingredients applied, and use of pest management practices. NASS collects on-farm chemical use data to enhance the quality of information used in the evaluation of issues related to agricultural chemicals, including pesticide registrations. Pest management data are used to measure integrated pest management adoption levels and evaluate the impact of alternative pesticide regulations, policies, and practices. A sample of nursery and floriculture operations with sales over $10,000 in the major States will be personally interviewed, since chemical use data are not accurately collected by telephone or mail.

A nursery production survey and a Christmas tree production survey are conducted every year in Oregon.

Authority: These data will be collected under authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995, (Pub. L. 104-113) and Office of Management and Budget regulations at 5 CFR part 1320 (60 FR 44978, August 29, 1995).

NASS also complies with OMB Implementation Guidance, “Implementation Guidance for Title V of the E-Government Act, Confidential Information Protection and Statistical Efficiency Act of 2002 (CIPSEA),” Federal Register, Vol. 72, No. 115, June 15, 2007, p. 33376.

Estimate of Burden: Based on previous data collected, the average amount of respondent burden for the Nursery and Floriculture Chemical Use Survey is estimated to average 60 minutes per respondent (conducted once every three years). The annual nursery production survey conducted in Oregon is estimated to average 30 minutes per respondent. The annual Christmas tree production survey in Oregon is estimated to average 20 minutes per respondent. With an estimated response rate of approximately 80%, we estimate the total burden to be approximately 4,000 hours.

Respondents: Producers of nursery, greenhouse, and floriculture products.

Estimated Annual Number of Respondents: (Chemical Use Survey at 4,200 × frequency of ⅓) + (Oregon Nursery Production Survey at 800 × frequency of 1.0) + (Oregon Christmas Tree Production at 1,000 × frequency of 1.0) = approximately 3,200.

Estimated Total Annual Burden on Respondents: Approximately 4,000 hours. Copies of this information collection and related instructions can be obtained without charge from David Hancock, NASS Clearance Officer, at (202) 690-2388.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, August 11, 2009.
Joseph T. Reilly,
Associate Administrator.

[FR Doc. E9-20925 Filed 8-31-09; 8:45 am]

BILLING CODE 3410-20-P